DEPARTMENT OF THE INTERIOR

National Park Service

[NPS-WASO-NAGPRA-12278; 2200-1100-665]

Notice of Inventory Completion: Washington State Parks and Recreation Commission, Olympia, WA

AGENCY: National Park Service, Interior.

ACTION: Notice.

SUMMARY: The Washington State Parks and Recreation Commission has completed an inventory of human remains, in consultation with the appropriate Indian tribes, and has determined that there is a cultural affiliation between the human remains and present-day Indian tribes. Representatives of any Indian tribe that believes itself to be culturally affiliated with the human remains may contact the Washington State Parks and Recreation Commission. Repatriation of the human remains to the Indian tribes stated below may occur if no additional claimants come forward.

DATES: Representatives of any Indian tribe that believes it has a cultural affiliation with the human remains should contact the Washington State Parks and Recreation Commission at the address below by April 1, 2013.

ADDRESSES: Alicia Woods, Washington State Parks and Recreation Commission, PO Box 42650, Olympia, WA 98504-2650, telephone (360) 902-0939.

SUPPLEMENTARY INFORMATION: Notice is here given in accordance with the Native American Graves Protection and Repatriation Act (NAGPRA), 25 U.S.C. 3003, of the completion of an inventory of human remains in the possession of the Washington State Parks and Recreation Commission. The human remains were removed from Deception Pass State Park, Fidalgo Island, Skagit County, WA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Washington State Parks and Recreation Commission professional staff in consultation with representatives of Samish Indian Nation (previously listed as the Samish Indian Tribe, Washington); Sauk-Suiattle Indian Tribe; and the Stillaguamish Tribe of Indians of Washington (previously listed as the Stillaguamish Tribe of Washington). The following tribes were invited to consult but did not participate: Confederated Tribes and Bands of the Yakama Nation (deferred, with a request to be kept informed); Confederated Tribes of the Colville Reservation (deferred); Lummi Tribe of the Lummi Reservation (deferred); Swinomish Indians of the Swinomish Reservation of Washington (absent at consultation); Tulalip Tribes of Washington (previously listed as the Tulalip Tribes of the Tulalip Reservation, Washington) (repeatedly contacted without success); and the Upper Skagit Indian Tribe (absent at consultation).

History and Description of the Remains

In 1978, human remains representing, at minimum, one individual were inadvertently discovered by park visitors within the Bowman Bay area of Deception Pass State Park on Fidalgo Island, in Skagit County, WA. This burial is adjacent to site 45-SK-8, but outside the site boundaries and buffer zone. No known individuals were identified. No associated funerary objects are present.

Between July 23 and 26, 1978, the human remains were investigated by the Skagit County Sheriff and Coroner who determined the remains were “antiquital and not of recent origin,” and removed the visible human remains. During that same year, the Washington State Office of Public Archaeology (hereinafter OPA), at the Washington State Parks' request, examined the burial site and discovered additional human remains. An OPA consultant and Washington State Parks staff contacted the Swinomish Indians of the Swinomish Reservation of Washington and the Samish Indian Nation (previously listed as the Samish Indian Tribe, Washington) about the remains.

A physical anthropologist examined the remains and determined them to be of Native American descent based on cranial and dental morphological characteristics. Bowman Bay is within the traditional territory of the Samish, Sauk-Suiattle, Skagit, Stillaguamish, and Swinomish people. Ethnographic data provided by early travelers and visitors to the area, as well as archaeological surveys and excavation reports, document regular use of the area, predominantly by the Samish Indian Nation (previously listed as the Samish Indian Tribe, Washington) and the Swinomish Indians of the Swinomish Reservation of Washington. In consultation, the Sauk-Suiattle Indian Tribe provided historical information about generations of family members living in the area and ritual use of the area in vision quests and spirit songs. The Stillaguamish Tribe of Indians of Washington (previously listed as the Stillaguamish Tribe of Washington) provided written evidence of geographic and kinship ties to the area, as well as oral traditional and historical evidence, and expert opinion linking the tribe to the location. Based on geographic and kinship evidence provided at consultation, Washington State Parks staff also determined a cultural affiliation of the human remains with the Skagit people and the Snohomish people (which are represented today by the Swinomish Indians of the Swinomish Reservation of Washington and the Tulalip Tribes of Washington (previously listed as the Tulalip Tribes of the Tulalip Reservation, Washington), respectively).

Determinations Made by the Washington State Parks and Recreation Commission

Officials of the Washington State Parks and Recreation Commission have determined that:

• Pursuant to 25 U.S.C. 3001(9), the human remains described in this notice represent the physical remains of one individual of Native American ancestry.

• Pursuant to 25 U.S.C. 3001(2), there is a relationship of shared group identity that can be reasonably traced between the Native American human remains and the Samish Indian Nation (previously listed as the Samish Indian Tribe, Washington); Sauk-Suiattle Indian Tribe; Stillaguamish Tribe of Indians of Washington (previously listed as the Stillaguamish Tribe of Washington); Swinomish Indians of the Swinomish Reservation of Washington; and the Tulalip Tribes of Washington (previously listed as the Tulalip Tribes of the Tulalip Reservation, Washington).

Additional Requestors and Disposition

Representatives of any Indian tribe that believes itself to be culturally affiliated with the human remains should contact Alicia Woods, Washington State Parks and Recreation Commission, PO Box 42650, Olympia, WA 98504-2650, telephone (360) 902-0939, before April 1, 2013. Repatriation of the human remains to the Samish Indian Nation (previously listed as the Samish Indian Tribe, Washington); Sauk-Suiattle Indian Tribe; Stillaguamish Tribe of Indians of Washington (previously listed as the Stillaguamish Tribe of Washington); Swinomish Indians of the Swinomish Reservation of Washington; and the Tulalip Tribes of Washington (previously listed as the Tulalip Tribes of the Tulalip Reservation, Washington) may proceed after that date if no additional claimants come forward.

Washington State Parks and Recreation Commission is responsible for notifying the Confederated Tribes and Bands of the Yakama Nation; Samish Indian Nation (previously listed as the Samish Indian Tribe, Washington); Sauk-Suiattle Indian Tribe; Stillaguamish Tribe of Indians of Washington (previously listed as the Stillaguamish Tribe of Washington); Swinomish Indians of the Swinomish Reservation of Washington; Tulalip Tribes of Washington (previously listed as the Tulalip Tribes of the Tulalip Reservation, Washington); and the Upper Skagit Indian Tribe that this notice has been published.

Dated: February 5, 2013.
Sherry Hutt,
Manager, National NAGPRA Program.

[FR Doc. 2013-04777 Filed 2-28-13; 8:45 am]

BILLING CODE 4312-50-P